DEPARTMENT OF COMMERCE

International Trade Administration

[A-489-805]

Certain Pasta From Turkey: Final Results of Antidumping Duty New Shipper Review; 2013-2014

AGENCY: Enforcement and Compliance, International Trade Administration, Department of Commerce.

SUMMARY: The Department of Commerce (the Department) has conducted a new shipper review of the antidumping duty order on certain pasta (pasta) from Turkey. The period of review (POR) is July 1, 2013, through January 31, 2014, and covers Beşsan Makarna Gida San. Ve Tic. A.S. (Bessan). Because no interested party commented on the Preliminary Results,¹ we have not made any changes since the Preliminary Results. The final weighted-average dumping margin for the reviewed firm is listed below in the section entitled “Final Results of Review.”

¹ See Certain Pasta From Turkey: Preliminary Results of Antidumping Duty New Shipper Review; 2013-2014, 80 FR 863 (January 7, 2015) (Preliminary Results) and accompanying Preliminary Decision Memorandum.

DATES: Effective Date: March 27, 2015.

FOR FURTHER INFORMATION CONTACT: Tyler Weinhold or Robert James, AD/CVD Operations, Office VI, Enforcement and Compliance, International Trade Administration, U.S. Department of Commerce, 14th Street and Constitution Avenue NW., Washington, DC 20230; telephone: (202) 482-1121, or (202) 482-0649, respectively.

SUPPLEMENTARY INFORMATION:

Background

On January 7, 2015, the Department published the Preliminary Results, and invited interested parties to comment. The Department did not receive any comments on the Preliminary Results.

Period of Review

The POR covered by this proceeding is July 1, 2013, through January 31, 2014.

Scope of the Order

The merchandise covered by this order are certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions. Excluded from the scope of this review are refrigerated, frozen, or canned pastas, as well as all forms of egg pasta, with the exception of non-egg dry pasta containing up to two percent egg white.

The merchandise subject to review is currently classifiable under item 1902.19.20 of the Harmonized Tariff Schedule of the United States (HTSUS). Although the HTSUS subheading is provided for convenience and customs purposes, the written description of the merchandise subject to the order is dispositive.

Final Results of Review

As a result of this review, we determine that the following weighted-average dumping margin exists for the POR July 1, 2013, through January 31, 2014:

Manufacturer/exporter | Weighted-average dumping margin (percent)
Beşsan Makarna Gida San. Ve Tic. A.S | 0.00

Assessment Rates

Pursuant to section 751(a)(2)(A) of the Tariff Act of 1930, as amended (the Act) and 19 CFR 351.212(b), the Department will determine, and U.S. Customs and Border Protection (CBP) shall assess, antidumping duties on all appropriate entries of subject merchandise in accordance with the final results of this review. Because Bessan's weighted average dumping margin is zero, in accordance with the Final Modification, we will instruct CBP to liquidate all entries of subject merchandise during the POR produced and exported by Bessan without regard to antidumping duties.² For entries of subject merchandise during the POR produced and exported by Bessan for which it did not know its merchandise was destined for the United States, we will instruct CBP to liquidate unreviewed entries at the all-others rate if there is no rate for the intermediate company(ies) involved in the transaction.³ We intend to issue assessment instructions to CBP 15 days after the date of publication of these final results of review.

² See Antidumping Proceedings: Calculation of the Weighted-Average Dumping Margin and Assessment Rate in Certain Antidumping Duty Proceedings; Final Modification, 77 FR 8101, 8102 (February 14, 2012) (Final Modification).

³ For a full discussion of this clarification, see Antidumping and Countervailing Duty Proceedings: Assessment of Antidumping Duties, 68 FR 23954 (May 6, 2003).

Cash Deposit Requirements

The following deposit requirements will be effective upon publication of the notice of final results of new shipper review for all shipments of pasta from Turkey entered, or withdrawn from warehouse, for consumption on or after the date of publication as provided by section 751(a)(2)(C) of the Act: (1) The cash deposit rate for Bessan shall be zero; (2) for merchandise exported by manufacturers or exporters not covered in this review but covered in a prior segment of the proceeding, the cash deposit rate will continue to be the company-specific rate published for the most recent period in which the manufacturer or exporter participated; (3) if the exporter is not a firm covered in this review, a prior review, or the original less-than-fair-value investigation but the manufacturer is, the cash deposit rate will be the rate established for the most recent period for the manufacturer of the merchandise; (4) the cash deposit rate for all other manufacturers or exporters will continue to be 51.49 percent, the all-others rate established in the less-than-fair-value investigation.⁴ These cash deposit requirements, when imposed, shall remain in effect until further notice.

⁴ See Notice of Antidumping Duty Order and Amended Final Determination of Sales at Less Than Fair Value: Certain Pasta From Turkey, 61 FR 38545 (July 24, 1996).

Notification to Importers

This notice also serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Administrative Protective Order

This notice also serves as a reminder to parties subject to administrative protective orders (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

We are issuing and publishing these results in accordance with sections 751(a)(1) and 777(i)(1) of the Act and 19 CFR 351.214.

Dated: March 18, 2015.
Paul Piquado,
Assistant Secretary for Enforcement and Compliance.

[FR Doc. 2015-06951 Filed 3-26-15; 8:45 am]

BILLING CODE 3510-DS-P